ENVIRONMENTAL PROTECTION AGENCY

[OAR-2005-0084; FRL-7988-6]

Agency Information Collection Activities: Submission to OMB for Review and Approval; Comment Request; National Emission Standards for Hazardous Air Pollutants From Plating and Polishing Operations, EPA ICR Number 2186.01

AGENCY: Environmental Protection Agency.

ACTION: Notice.

SUMMARY: In compliance with the Paperwork Reduction Act (44 U.S.C. 3501 et seq.), this document announces that an Information Collection Request (ICR) has been forwarded to the Office of Management and Budget (OMB) for review and approval. This is a request for a new collection. This ICR describes the nature of the information collection and its estimated burden.

DATES: Comments must be submitted on or before November 25, 2005.

ADDRESSES: Submit your comments, referencing Docket ID number OAR-2005-0084, to (1) EPA online using EDOCKET (our preferred method), by e-mail to a-and-r-docket@epa.gov, or by mail to: Environmental Protection Agency, EPA Docket Center (EPA/DC), Air and Radiation Docket and Information Center, Mailcode 6102T, 1200 Pennsylvania Avenue NW., Washington, DC 20460, and (2) OMB at: Office of Information and Regulatory Affairs, Office of Management and Budget (OMB), Attention: Desk Officer for EPA, 725 17th Street, NW., Washington, DC 20503.

FOR FURTHER INFORMATION CONTACT: Donna Lee Jones, Emission Standards Division, Office of Air Quality Planning and Standards, U.S. Environmental Protection Agency (C439-02), Research Triangle Park, North Carolina, 27711; telephone number: (919) 541-5251; fax number: (919) 541-3207; e-mail address: jones.donnalee@epa.gov.

SUPPLEMENTARY INFORMATION: The EPA has submitted the following ICR to OMB for review and approval according to the procedures prescribed in 5 CFR 1320.12. On July 29, 2005 (70 FR 43865), EPA sought comments on this ICR pursuant to 5 CFR 1320.8(d). EPA received no comments.

The EPA has established a public docket for this ICR under Docket ID number OAR-2005-0084, which is available for public viewing at the Air and Radiation Docket and Information Center in the EPA Docket Center (EPA/DC), EPA West, Room B102, 1301 Constitution Avenue, NW., Washington, DC 20460. The EPA Docket Center Public Reading Room is open from 8:30 a.m. to 4:30 p.m., Monday through Friday, excluding legal holidays. The telephone number for the Public Reading Room is (202) 566-1744, and the telephone number for the Air and Radiation Docket and Information Center is (202) 566-1742. An electronic version of the public docket is available through EPA Dockets (EDOCKET) at http://www.epa.gov/edocket. Use EDOCKET to obtain a copy of the draft collection of information, submit or view public comments, access the index listing the contents of the public docket, and to access those documents in the public docket that are available electronically. Once in the system, select “search,” then key in the docket ID number identified above.

Any comments related to this ICR should be submitted to EPA within 30 days of this notice. The EPA's policy is that public comments, whether submitted electronically or on paper, will be made available for public viewing in EDOCKET as EPA receives them and without change, unless the comment contains copyrighted material, confidential business information (CBI), or other information whose public disclosure is restricted by statute. When EPA identifies a comment containing copyrighted information, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice at 67 FR 38102 (May 31, 2002), or go to http://www.epa.gov/edocket.

Title: National Emission Standards for Hazardous Air Pollutants from Plating and Polishing Operations.

Abstract: The proposed ICR will collect information and data from 1,208 existing plating and polishing facilities. Facilities will be requested to complete a simple paper questionnaire on general facility information (location, description, types of processes performed, operating hours, technical contact), HAP emissions and permit data, permit conditions, emission tests data, process design and operating data, HAP-containing material data, finished product types, local ventilation system information, HAP emission control measures, and pollution prevention practices. The questionnaire may be completed from readily available information; no additional emission testing or monitoring will be required.

The EPA will use the collected information and data to evaluate the need for area source National Emission Standards for Hazardous Air Pollutants (NESHAP) required under section 112(k) of the Clean Air Act for the Plating and Polishing Area Source Category. If an area source NESHAP is developed, the collected information will be used to evaluate the types of provisions needed to limit HAP emissions from plating and polishing operations and to estimate the impacts of regulatory options.

The EPA's authority to collect information is contained in Section 114 of the Clean Air Act, (42 U.S.C 7414). All information submitted to EPA pursuant to this ICR for which a claim of confidentiality is made is safeguarded according to Agency policies in 40 CFR part 2, subpart B. An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 12.1 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Entities potentially affected by this action are establishments primarily engaged in all types of electroplating, electroless plating, metal or thermal spraying, anodizing, coloring, and finishing of metals and formed products for the trade. Also potentially affected by this action are establishments which perform these types of activities, on their own account, on purchased metals or formed products. The standard industrial classification (SIC) code for this industry is primarily 3471, Electroplating, Plating, Polishing, Anodizing, and Coloring; the North American Industry Classification System (NAICS) code is 332813, Electroplating, Plating, Polishing, Anodizing, and Coloring.

Estimated Number of Respondents: 1,208.

Frequency of Response: This is a new collection requiring a one-time response.

Estimated Total Annual Hour Burden: 5,608 hours.

Estimated Total Annual Cost: $366,566, which includes $0 annual capital/startup costs, $0 annual O&M costs, and $366,566 annual labor costs.

Changes in the Estimates: This section does not apply since this is a new collection.

Dated: October 18, 2005.
Sara Hisel-McCoy,
Acting Director, Collection Strategies Division.

[FR Doc. 05-21371 Filed 10-25-05; 8:45 am]

BILLING CODE 6560-50-P